DEPARTMENT OF HOMELAND SECURITY

Coast Guard

33 CFR Part 117

[Docket No. USCG-2012-0031]

Drawbridge Operation Regulation; Atlantic Intracoastal Waterway Albermarle Sound to Sunset Beach, Scotts Hill, NC

AGENCY: Coast Guard, DHS.

ACTION: Notice of temporary deviation from regulations.

SUMMARY: The Commander, Fifth Coast Guard District, has issued a temporary deviation from the regulations governing the operation of the Figure Eight Swing Bridge across the Atlantic Intracoastal Waterway North Carolina Cut, mile 278.1, at Scotts Hill, NC. Under this temporary deviation, the drawbridge may remain in the closed position on specific dates and times to facilitate mechanical gear replacement.

DATES: This deviation is effective from 10 a.m. on February 7, 2012, until3 p.m. on February 8, 2012.

ADDRESSES: Documents mentioned in this preamble as being available in the docket USCG-2012-0031 and are available online by going to http://www.regulations.gov, inserting USCG-2012-0031 in the “Keywords” box, and then clicking “Search”. This material is also available for inspection or copying the Docket Management Facility (M-30), U.S. Department of Transportation, West Building Ground Floor, Room W12-140, 1200 New Jersey Avenue SE., Washington, DC 20590, between 9 a.m. and 5 p.m., Monday through Friday, except Federal Holidays.

FOR FURTHER INFORMATION CONTACT: If you have questions on this rule, call or email Mr. Jim Rousseau, Bridge Management Specialist, Fifth Coast Guard District, telephone (757) 398-6557.

Email James.L.Rousseau2@uscg.mil. If you have questions on reviewing the docket, call Renee V. Wright, Program Manager, Docket Operations, (202) 366-9826.

SUPPLEMENTARY INFORMATION: The Figure Eight Beach Homeowners Association, who owns and operates the Figure Eight Swing Bridge across the Atlantic Intracoastal Waterway (AIWW), North Carolina Cut, mile 278.1, at Scotts Hill, NC, has requested a temporary deviation from the current operating regulations set out in 33 CFR 117.821(a)(3), to accommodate mechanical gear replacement.

Under the current operating schedule, the draw shall open on signal for commercial vessels at all times and open on signal for pleasure vessels except need only open for pleasure vessels on the hour and half hour. Figure Eight Swing Bridge, at AIWW mile 278.1, across the North Carolina Cut in Scotts Hill, NC, has a vertical clearance in the closed position to vessels of 20 feet above mean high water. During this time of year approximately two vessels a day transits the area.

To facilitate mechanical gear replacement, the drawbridge will be maintained in the closed-to-navigation position from 10 a.m. to 3 p.m. on February 7 and 8, 2012. The mechanical gear replacement is scheduled for February 7, 2012. Under this temporary deviation, the drawbridge will remain in the closed position to vessels requiring an opening from 10 p.m. to 3 p.m. However, should weather preclude this work from taking place on February 7, 2012, the work will be re-scheduled to take place on February 8, 2012. In that case, the drawbridge will operate as normal on February 7, 2012 and the drawbridge will remain in the closed position to vessels requiring an opening from 10 a.m. to 3 p.m. on February 8, 2012.

Vessels may transit under the drawbridge while it is in the closed position. The Atlantic Intracoastal Waterway caters to a variety of vessels from tug and barge traffic to recreational vessels traveling from Florida to Maine. The Coast Guard will inform unexpected users of the waterway through our local and broadcast Notices to Mariners of the limited operating schedule for the drawbridge so that vessels can arrange their transits to minimize any impacts caused by the temporary deviation. The Atlantic Ocean is the alternate route for vessels and the bridge will not be able to open in the event of an emergency. The Coast Guard will inform the users of the waterway through our Local and Broadcast Notices to Mariners of the opening restrictions of the draw span to minimize transiting delays caused by the temporary deviation.

In accordance with 33 CFR 117.35(e), the draw must return to its regular operating schedule immediately at the end of the designated time period.

This deviation from the operating regulations is authorized under 33 CFR 117.35.

Dated: January 20, 2012.
Waverly W. Gregory, Jr.,
Bridge Program Manager, Fifth Coast Guard District.

[FR Doc. 2012-2282 Filed 2-1-12; 8:45 am]

BILLING CODE 9110-04-P